DEPARTMENT OF ENERGY

National Commission on the BP Deepwater Horizon Oil Spill and Offshore Drilling

AGENCY: Department of Energy, Office of Fossil Energy.

ACTION: Notice of open meeting.

SUMMARY: This notice announces an open meeting of the National Commission on the BP Deepwater Horizon Oil Spill and Offshore Drilling (the Commission). The Commission was organized pursuant to the Federal Advisory Committee Act (Pub. L. 92-463, 86 Stat. 770) (the Act). The Act requires that agencies publish these notices in the Federal Register. The Charter of the Commission can be found at: http://www.OilSpillCommission.gov.

DATES: Wednesday, October 13, 2010, 1 p.m.-4:45 p.m.

ADDRESSES: The Westin Grand, 2350 M Street, NW., Washington, DC 20037; telephone number: (202) 429-0100.

FOR FURTHER INFORMATION CONTACT: Christopher A. Smith, Designated Federal Officer, Mail Stop: FE-30, U.S. Department of Energy, 1000 Independence Avenue, SW., Washington, DC 20585; telephone (202) 586-0716 or facsimile (202) 586-6221; e-mail: BPDeepwaterHorizonCommission@hq.doe.gov.

SUPPLEMENTARY INFORMATION:

Background: The President directed that the Commission be established to examine the relevant facts and circumstances concerning the root cause of the BP Deepwater Horizon explosion, fire, and oil spill and to develop options to guard against, and mitigate the impact of, any oil spills associated with offshore drilling in the future.

The Commission is composed of seven members appointed by the President to serve as special Government employees. The members were selected because of their extensive scientific, legal, engineering, and environmental expertise, and their knowledge of issues pertaining to the oil and gas industry. Information on the Commission can be found at its Web site: http://www.OilSpillCommission.gov.

Purpose of the Meeting: To discuss relevant facts and circumstances concerning the root causes of the Deepwater Horizon explosion, fire, and oil spill, and options to guard against, and mitigate the impact of, any oil spills associated with offshore drilling in the future.

Tentative Agenda: The meeting is expected to start on October 13, 2010, at 1 p.m. Commission discussions are expected to begin shortly thereafter and will conclude at approximately 4 p.m. Public comments can be made tentatively from 4:15 p.m. to 4:45 p.m. The final agenda will be available at the Commission's Web site: http://www.OilSpillCommission.gov.

Public Participation: The meeting is open to the public. Seats will be available on a first-come, first-serve basis. An overflow room will be available with a live video feed of the meeting. Those not able to attend the meeting may view the meeting live on the Commission's Web site: http://www.OilSpillCommission.gov. The Designated Federal Officer is empowered to conduct the meeting in a fashion that will facilitate the orderly conduct of business.

Approximately thirty minutes will be reserved for public comments. Time allotted per speaker will be three minutes. Opportunity for public comment will be available on October 13 tentatively from 4:15 p.m. to 4:45 p.m. Registration for those wishing to request an opportunity to speak opens onsite at noon on October 13.

Speakers will register to speak on a first-come, first-serve basis. Members of the public wishing to provide oral comments are encouraged to provide a written copy of their comments for collection at the time of onsite registration.

Those individuals who are not able to attend the meeting, or who are not able to provide oral comments during the meeting, are invited to send a written statement to Christopher A. Smith, Mail Stop FE-30, U.S. Department of Energy, 1000 Independence Avenue, SW., Washington, DC 20585, or e-mail: BPDeepwaterHorizionCommission@hq.doe.gov. This notice is being published less than 15 days before the date of the meeting due to a national emergency.

Minutes: The minutes of the meeting will be available at the Commission's Web site: http://www.OilSpillCommission.gov or by contacting Mr. Smith. He may be reached at the postal or e-mail addresses above.

Accommodation for the hearing impaired: A sign language interpreter will be onsite for the duration of the meeting.

Issued in Washington, DC on September 24, 2010.
Carol A. Matthews,
Committee Management Officer.

[FR Doc. 2010-24390 Filed 9-28-10; 8:45 am]

BILLING CODE 6450-01-P